DEPARTMENT OF TRANSPORTATION

Federal Aviation Administration

14 CFR Part 39

[Docket No. FAA-2025-5395; Project Identifier MCAI-2025-01770-T; Amendment 39-23223; AD 2025-24-51]

RIN 2120-AA64

Airworthiness Directives; Airbus SAS Airplanes

AGENCY: Federal Aviation Administration (FAA), DOT.

ACTION: Final rule; request for comments.

SUMMARY: The FAA is adopting a new airworthiness directive (AD) for all Airbus SAS Model A319 and A320 series airplanes; and Model A321-211, -212, -213, -231, -232, -251N, -252N, -253N, -251NX, -252NX, -253NX, -271N, -272N, -271NX, and -272NX airplanes. This emergency AD was prompted by an uncommanded and limited pitch down event that occurred on an Airbus A320 airplane, where the autopilot remained engaged with a brief and limited loss of altitude. This emergency AD requires replacement or modification of each affected elevator aileron computer (ELAC). The emergency AD also prohibits the installation of affected parts on certain airplane configurations. The FAA previously sent an emergency AD to all known U.S. owners and operators of these airplanes. The FAA is issuing this emergency AD to address the unsafe condition on these products.

DATES: This AD is effective January 6, 2026. Emergency AD 2025-24-51, issued on November 28, 2025, which contains the requirements of this amendment, was effective with actual notice.

The Director of the Federal Register approved the incorporation by reference of a certain publication listed in this AD as of January 6, 2026.

The FAA must receive comments on this AD by February 19, 2026.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-5395; or in person at Docket Operations between 9 a.m. and 5 p.m., Monday through Friday, except Federal holidays. The AD docket contains this final rule, the mandatory continuing airworthiness information (MCAI), any comments received, and other information. The street address for Docket Operations is listed above.

Material Incorporated by Reference:

• For Airbus material identified in this AD, contact Airbus SAS, Airworthiness Office—EIAS, Rond-Point Emile Dewoitine No: 2, 31700 Blagnac Cedex, France; telephone +33 5 61 93 36 96; fax +33 5 61 93 44 51; email account.airworth-eas@airbus.com; website airbus.com.

• For European Union Aviation Safety Agency (EASA) material identified in this AD, contact EASA, Konrad-Adenauer-Ufer 3, 50668 Cologne, Germany; telephone +49 221 8999 000; email ADs@easa.europa.eu. You may find this material on the EASA website at ad.easa.europa.eu.

• You may view this material at the FAA, Airworthiness Products Section, Operational Safety Branch, 2200 South 216th St., Des Moines, WA. For information on the availability of this material at the FAA, call 206-231-3195. It is also available at regulations.gov under Docket No. FAA-2025-5395.

FOR FURTHER INFORMATION CONTACT: Brian Knaup, Manager, AIR-520, Continued Operational Safety Branch, FAA, 2200 South 216th St., Des Moines, WA 98198; phone: 817-222-5390; email: OperationalSafety@faa.gov.

SUPPLEMENTARY INFORMATION:

Comments Invited

The FAA invites you to send any written data, views, or arguments about this final rule. Send your comments using a method listed under the ADDRESSES section. Include “Docket No. FAA-2025-5395; Project Identifier MCAI-2025-01770-T” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Brian Knaup, Manager, AIR-520, Continued Operational Safety Branch, FAA, 2200 South 216th St., Des Moines, WA 98198; phone: 817-222-5390; email: OperationalSafety@faa.gov. Any commentary that the FAA receives that is not specifically designated as CBI will be placed in the public docket for this rulemaking.

Background

The FAA issued Emergency AD 2025-24-51, dated November 28, 2025 (Emergency AD 2025-24-51), to address an unsafe condition on all Airbus SAS Model A319 and A320 series airplanes; and Model A321-211, -212, -213, -231, -232, -251N, -252N, -253N, -251NX, -252NX, -253NX, -271N, -272N, -271NX, and -272NX airplanes. The FAA sent the emergency AD to all known U.S. owners and operators of these airplanes. The Emergency AD 2025-24-51 requires replacement or modification of each affected ELAC with a serviceable ELAC. The emergency AD also prohibits the installation of affected parts on certain airplane configurations.

Emergency AD 2025-24-51 was prompted by EASA Emergency AD 2025-0268-E, dated November 28, 2025 (EASA Emergency AD 2025-0268-E) (also referred to as the MCAI), issued by EASA, which is the Technical Agent for the Member States of the European Union, to correct an unsafe condition on all Airbus SAS Model A319 series airplanes; A320-211, -212, -214, -215, -216, -231, -232, -233, -251N, -252N, -253N, -271N, -272N, and -273N airplanes; and Model A321-211, -212, -213, -231, -232, -251N, -252N, -253N, -251NX, -252NX, -253NX, -271N, -272N, -271NX, and -272NX airplanes. Model A320-215 airplanes are not certificated by the FAA and are not included on the U.S. type certificate data sheet; this emergency AD therefore does not include those airplanes in the applicability. The MCAI states an Airbus A320 airplane recently experienced an uncommanded and limited pitch down event. The autopilot remained engaged throughout the event, with a brief and limited loss of altitude, and the rest of the flight was uneventful. Preliminary technical assessment done by Airbus identified a malfunction of the affected ELAC as a possible contributing factor.

The FAA is issuing this emergency AD to address a malfunction of the affected ELAC. The unsafe condition could lead to an uncommanded elevator movement that may result in exceeding the aircraft's structural capability and consequent loss of continued safe flight and landing.

You may examine the MCAI in the AD docket at regulations.gov under Docket No. FAA-2025-5395.

Material Incorporated by Reference Under 1 CFR Part 51

The FAA reviewed EASA Emergency AD 2025-0268-E. This material specifies procedures for replacing or modifying each affected ELAC with a serviceable ELAC. EASA Emergency AD 2025-0268-E also prohibits the installation of affected parts on certain airplane configurations.

The FAA also reviewed Airbus Alert Operators Transmission (AOT) A27N022-25, Revision 01, dated November 28, 2025. This material lists airplane configurations that are part of the Group 1 definition in EASA Emergency AD 2025-0268-E.

This material is reasonably available because the interested parties have access to it through their normal course of business or by the means identified in the ADDRESSES section.

FAA's Determination

These products have been approved by the civil aviation authority of another country and are approved for operation in the United States. Pursuant to the FAA's bilateral agreement with this State of Design Authority, that authority has notified the FAA of the unsafe condition described in the MCAI described above. The FAA is issuing this emergency AD after determining that the unsafe condition described previously is likely to exist or develop on other products of the same type design.

AD Requirements

This emergency AD requires accomplishing the actions specified in the MCAI described previously.

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, EASA Emergency AD 2025-0268-E is incorporated by reference in this emergency AD. This AD requires compliance with EASA Emergency AD 2025-0268-E in its entirety through that incorporation, except for any differences identified as exceptions in the regulatory text of this emergency AD. Using common terms that are the same as the heading of a particular section in EASA Emergency AD 2025-0268-E does not mean that operators need comply only with that section. For example, where the emergency AD requirement refers to “all required actions and compliance times,” compliance with this emergency AD requirement is not limited to the section titled “Required Action(s) and Compliance Time(s)” in EASA Emergency AD 2025-0268-E. Material required by EASA Emergency AD 2025-0268-E for compliance will be available at regulations.gov under Docket No. FAA-2025-5395 after this emergency AD is published.

Justification for Immediate Adoption and Determination of the Effective Date

Section 553(b) of the Administrative Procedure Act (APA) (5 U.S.C. 551 et seq.) authorizes agencies to forgo notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that required the immediate adoption of Emergency AD 2025-24-51, issued on November 28, 2025, to all known U.S. owners and operators of these airplanes. The FAA found that the risk to the flying public justified forgoing notice and comment prior to adoption of this rule because malfunction of the affected ELAC could lead to an uncommanded elevator movement that may result in exceeding the aircraft's structural capability and consequent loss of continued safe flight and landing. These conditions still exist, and the AD is hereby published in the Federal Register as an amendment to 14 CFR 39.13 to make it effective to all persons. Given the significance of the risk presented by this unsafe condition, it must be immediately addressed. Accordingly, notice and opportunity for prior public comment are impracticable and contrary to the public interest pursuant to 5 U.S.C. 553(b).

In addition, the FAA finds that good cause exists pursuant to 5 U.S.C. 553(d) for making this amendment effective in less than 30 days, for the same reasons the FAA found good cause to forgo notice and comment.

Regulatory Flexibility Act

The requirements of the Regulatory Flexibility Act (RFA) do not apply when an agency finds good cause pursuant to 5 U.S.C. 553 to adopt a rule without prior notice and comment. Because the FAA has determined that it has good cause to adopt this rule without notice and comment, RFA analysis is not required.

Costs of Compliance

The FAA estimates that this emergency AD affects 2,007 airplanes of U.S. registry. Of those, approximately 550 airplanes are Group 1 airplanes that may require modification or replacement. The FAA estimates the following costs to comply with this emergency AD:

Estimated Costs of Required Actions
Action | Labor cost | Parts cost | Cost per product | Cost on U.S. operators
Replacement or modification (Group 1 airplanes) | 3 work-hours × $85 per hour = $255 | Unknown * | $255 | $140,250
* The FAA has received no definitive data on which to base the part cost estimate for the required actions specified in this emergency AD.

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-24-51 Airbus SAS: Amendment 39-23223; Docket No. FAA-2025-5395; Project Identifier MCAI-2025-01770-T.

(a) Effective Date

The FAA issued Emergency Airworthiness Directive (AD) 2025-24-51 on November 28, 2025, directly to affected owners and operators. As a result of such actual notice, that emergency AD was effective for those owners and operators on the date it was received. This emergency AD contains the same requirements as that emergency AD and, for those who did not receive actual notice, is effective on January 6, 2026.

(b) Affected ADs

None.

(c) Applicability

This emergency AD applies to all Airbus SAS airplanes identified in paragraphs (c)(1) through (3) of this emergency AD, certificated in any category.

(1) Model A319-111, -112, -113, -114, -115, -131, -132, -133, -151N, -153N, -171N, and -173N airplanes.

(2) Model A320-211, -212, -214, -216, -231, -232, -233, -251N, -252N, -253N, -271N, -272N, and -273N airplanes.

(3) Model A321-211, -212, -213, -231, -232, -251N, -252N, -253N, -251NX, -252NX, -253NX, -271N, -272N, -271NX, and -272NX airplanes.

(d) Subject

Air Transport Association (ATA) of America Code 27, Flight controls.

(e) Unsafe Condition

This emergency AD was prompted by an uncommanded and limited pitch down event that occurred on an Airbus A320 airplane, where the autopilot remained engaged with a brief and limited loss of altitude. The FAA is issuing this emergency AD to address a malfunction of the affected elevator aileron computer (ELAC). The unsafe condition could lead to an uncommanded elevator movement that may result in exceeding the aircraft's structural capability and consequent loss of continued safe flight and landing.

(f) Compliance

Comply with this emergency AD within the compliance times specified, unless already done.

(g) Requirements

Except as specified in paragraph (h) of this emergency AD: Comply with all required actions and compliance times specified in, and in accordance with, European Union Aviation Safety Agency (EASA) Emergency AD 2025-0268-E, dated November 28, 2025 (EASA Emergency AD 2025-0268-E).

(h) Exceptions to EASA Emergency AD 2025-0268-E

(1) Where EASA Emergency AD 2025-0268-E refers to its effective date, this emergency AD requires using the effective date of this emergency AD.

(2) Where EASA Emergency AD 2025-0268-E specifies a compliance time of before next flight after the effective date of this AD, this emergency AD requires a compliance time of before further flight after the effective date of this emergency AD.

(3) Where EASA Emergency AD 2025-0268-E defines Group 1 airplanes as those having an affected ELAC installed and being in one of the configurations defined in the AOT, this emergency AD defines Group 1 airplanes as those having an affected ELAC installed and being in one of the configurations defined in paragraph 1 of Airbus Alert Operators Transmission (AOT) A27N022-25, Revision 01, dated November 28, 2025.

(4) Where EASA Emergency AD 2025-0268-E specifies a ferry flight is permitted, this emergency AD allows special flight permits to be issued in accordance with 14 CFR 21.197 and 21.199 to operate the airplane without passengers and in non-ETOPS operations to a location where the airplane can be modified (if the operator elects to do so), for no more than 3 flight cycles.

(i) Additional AD Provisions

The following provisions also apply to this emergency AD:

(1) Alternative Methods of Compliance (AMOCs): The Manager, AIR-520, Continued Operational Safety Branch, FAA, has the authority to approve AMOCs for this emergency AD, if requested using the procedures found in 14 CFR 39.19. In accordance with 14 CFR 39.19, send your request to your principal inspector or responsible Flight Standards Office, as appropriate. If sending information directly to the manager of the Continued Operational Safety Branch, send it to the attention of the person identified in paragraph (j) of this emergency AD and email to: AMOC@faa.gov. Before using any approved AMOC, notify your appropriate principal inspector, or lacking a principal inspector, the manager of the responsible Flight Standards Office.

(2) Contacting the Manufacturer: For any requirement in this emergency AD to obtain instructions from a manufacturer, the instructions must be accomplished using a method approved by the Manager, AIR-520, Continued Operational Safety Branch, FAA; or the European Union Aviation Safety Agency (EASA); or Airbus SAS's EASA Design Organization Approval (DOA). If approved by the DOA, the approval must include the DOA-authorized signature.

(3) Required for Compliance (RC): Except as required by paragraphs (i)(2) of this emergency AD, if any material referenced in Emergency AD 2025-0268-E that contains paragraphs that are labeled as RC, the instructions in RC paragraphs, including subparagraphs under an RC paragraph, must be done to comply with this emergency AD; any paragraphs, including subparagraphs under those paragraphs, that are not identified as RC are recommended. The instructions in paragraphs, including subparagraphs under those paragraphs, not identified as RC may be deviated from using accepted methods in accordance with the operator's maintenance or inspection program without obtaining approval of an AMOC, provided the instructions identified as RC can be done and the airplane can be put back in an airworthy condition. Any substitutions or changes to instructions identified as RC require approval of an AMOC.

(j) Additional Information

For more information about this emergency AD, contact Brian Knaup, Manager, AIR-520, Continued Operational Safety Branch, FAA, 2200 South 216th St., Des Moines, WA 98198; phone: 817-222-5390; email: OperationalSafety@faa.gov.

(k) Material Incorporated by Reference

(1) The Director of the Federal Register approved the incorporation by reference of the material listed in this paragraph under 5 U.S.C. 552(a) and 1 CFR part 51.

(2) You must use this material as applicable to do the actions required by this AD, unless this AD specifies otherwise.

(i) Airbus Alert Operators Transmission (AOT) A27N022-25, Revision 01, dated November 28, 2025.

(ii) European Union Aviation Safety Agency (EASA) Emergency AD 2025-0268-E, dated November 28, 2025.

(3) For Airbus material identified in this AD, contact Airbus SAS, Airworthiness Office—EIAS, Rond-Point Emile Dewoitine No: 2, 31700 Blagnac Cedex, France; telephone +33 5 61 93 36 96; fax +33 5 61 93 44 51; email account.airworth-eas@airbus.com; website airbus.com.

(4) For EASA material identified in this AD, contact EASA, Konrad-Adenauer-Ufer 3, 50668 Cologne, Germany; telephone +49 221 8999 000; email ADs@easa.europa.eu. You may find this material on the EASA website at ad.easa.europa.eu.

(5) You may view this material at the FAA, Airworthiness Products Section, Operational Safety Branch, 2200 South 216th St., Des Moines, WA. For information on the availability of this material at the FAA, call 206-231-3195.

(6) You may view this material at the National Archives and Records Administration (NARA). For information on the availability of this material at NARA, visit www.archives.gov/federal-register/cfr/ibr-locations or email fr.inspection@nara.gov.

Issued on December 17, 2025.
Lona C. Saccomando,
Acting Deputy Director, Integrated Certificate Management Division, Aircraft Certification Service.

[FR Doc. 2025-24242 Filed 1-2-26; 8:45 am]

BILLING CODE 4910-13-P